DEPARTMENT OF THE INTERIOR

Performance Review Board Appointments

AGENCY: Department of the Interior.

ACTION: Notice of performance review board appointments.

SUMMARY: This notice provides the names of individuals who have been appointed to serve as members of the Department of the Interior Performance Review Board.

DATES: These appointments are effective on September 14, 2000.

FOR FURTHER INFORMATION CONTACT: Carolyn Cohen, Director of Personnel Policy, Office of the Secretary, Department of the Interior, 1849 C Street, NW., Washington, DC 20240, Telephone Number: (202) 208-6761.

2000 SES Performance Review Board

The following Senior Executive Service members have been appointed to serve on the Department of the Interior 2000 Performance Review Board:

E. Melodee Stith, Office of the Assistant Secretary—Policy, Management and Budget

Willie R. Taylor, Office of the Assistant Secretary—Policy, Management and Budget

Carolyn Cohen, Office of the Assistant Secretary—Policy, Management and Budget

William D. Bettenberg, Office of the Assistant Secretary—Policy, Management and Budget

Dolores L. Chacon, Office of the Assistant Secretary—Policy, Management and Budget

Debra Sonderman, Office of the Assistant Secretary—Policy, Management and Budget

Gina Guy, Office of the Solicitor

Denise E. Sheehan, Fish and Wildlife Service

J. Lynn Smith, National Park Service

Jerry Belson, National Park Service

Kathryn R. Clement, U.S. Geological Survey

Barbara J. Ryan, U.S. Geological Survey

Carmen R. Maymi, Bureau of Reclamation

Margaret W. Sibley, Bureau of Reclamation

Robert W. Johnson, Bureau of Reclamation

Thomas A. Readinger, Minerals Management Service

Robert E. Brown, Minerals Management Service

Robert J. Ewing, Office of Surface Mining

W. Hord Tipton, III, Bureau of Land Management

Dominic A. Nessi, Office of the Assistant Secretary—Indian Affairs

Dated: September 7, 2000.
Carolyn Cohen,
Director of Personnel Policy.

[FR Doc. 00-23634 Filed 9-13-00; 8:45 am]

BILLING CODE 4310-10-M